DEPARTMENT OF JUSTICE

Notice of Lodging of Consent Decree Under the Comprehensive Environmental Response, Compensation and Liability Act

Notice is hereby given that on June 1, 2009, a proposed Consent Decree in United States of America et al. v. AK Steel Corporation, et al., Civil Action No. 97-1863 was lodged with the United States District Court for the Western District of Pennsylvania.

The Consent Decree resolves the United States' claims against 36 parties at the Breslube Penn Superfund Site, located in Coraopolis, Moon Township, Pennsylvania. Those claims were brought under Section 107 of the Comprehensive Environmental Response, Compensation and Liability Act, 42 U.S.C. 9607. The Settling Defendants consist of two groups, nine Performing Defendants and 27 Non-Performing Defendants. The Commonwealth of Pennsylvania has signed the Consent Decree and will file a separate complaint.

The Consent Decree requires that Performing Defendants fund and perform the remedy selected in EPA's August 2007 Record of Decision. The estimated cost of the remedy is $8,070,000, and may increase to $12,610,000 if EPA decides two contingent remedies are necessary. The settlement also recovers past costs of the United States ($3,037,491.61), past costs of the Commonwealth ($41,356.04), and includes an agreement to pay all future response costs.

The Department of Justice will receive for a period of thirty (30) days from the date of this publication comments relating to the Decree. Comments should be addressed to the Assistant Attorney General, Environmental and Natural Resources Division, and either e-mailed to pubcomment-ees.enrd@usdoj.gov or mailed to P.O. Box 7611, U.S. Department of Justice, Washington, DC 20044-7611, and should refer to United States of America et al. v. AK Steel Corporation, et al., Civil Action No. 97-1863 (W.D. PA), D.J. Ref. 90-11-3-1762.

The Decree may be examined at U.S. EPA Region 3, 1650 Arch Street, Philadelphia, PA 19103. During the public comment period, the Decree, may also be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $23.25 (25 cents per page reproduction cost) payable to the U.S. Treasury or, if by e-mail or fax, forward a check in that amount to the Consent Decree Library at the stated address.

Maureen Katz,
Assistant Section Chief, Environmental Enforcement Section, Environment and Natural Resources Division.

[FR Doc. E9-13240 Filed 6-5-09; 8:45 am]

BILLING CODE 4410-15-P